DEPARTMENT OF ENERGY

Federal Energy Regulatory Commission

[Project No. 2570-032]

AEP Generation Resources, Inc.; Notice of Teleconference

a. Project Name and Number: Racine Hydroelectric Project No. 2570.

b. Applicant: AEP Generation Resources, Inc.

c. Date and Time of Teleconference: September 26, 2019, 1:00 p.m. Eastern Standard Time.

d. FERC Contact: Aaron Liberty at (202) 502-6862, aaron.liberty@ferc.gov.

e. Purpose of Meeting: Federal Energy Regulatory Commission (Commission) staff will participate in a teleconference with AEP Generation Resources, Inc. (AEP Generation Resources), the U.S. Fish and Wildlife Service (FWS), and the West Virginia Division of Natural Resources (West Virginia DNR) to discuss the American eel surveys that are required to be conducted at the Racine Hydroelectric Project. FWS and West Virginia DNR filed separate letters with the Commission on August 22 and August 23, 2019, respectively, detailing their concerns associated with these surveys. Specifically, the resource agencies state that AEP Generation Resource's proposed methodologies for these surveys would not achieve the goals and the objectives of the Commission's approved study plan, and request a teleconference to discuss study methodologies.

f. All local, state, and federal agencies, Indian tribes, and other interested parties are invited to attend by phone. Please call Aaron Liberty at (202) 502-6862, or email aaron.liberty@ferc.gov by September 25, 2019, to RSVP and to receive specific instructions on how to participate.

Dated: September 10, 2019.
Nathaniel J. Davis, Sr.,
Deputy Secretary.

[FR Doc. 2019-20063 Filed 9-16-19; 8:45 am]

BILLING CODE 6717-01-P